DEPARTMENT OF COMMERCE

National Oceanic and Atmospheric Administration

[RTID 0648-XD958]

South Atlantic Fishery Management Council; Public Meeting

AGENCY: National Marine Fisheries Service (NMFS), National Oceanic and Atmospheric Administration (NOAA), Commerce.

ACTION: Notice of public meetings.

SUMMARY: The South Atlantic Fishery Management Council (Council) will hold meetings of the following: Shrimp Committee, Habitat and Ecosystem Management Committee, and Snapper Grouper Committee. The meeting week will also include a formal public comment session and meetings of the Full Council.

DATES: The Council meeting will be held from 10 a.m. on Monday, June 10, 2024, until 12 p.m. on Friday, June 14, 2024.

ADDRESSES:

Meeting address: The meetings will be held at The Shores Resort and Spa, 2637 South Atlantic Avenue, Daytona Beach Shores, FL 32118; phone: (386) 767-7350. The meeting will also be available via webinar. See SUPPLEMENTARY INFORMATION.

FOR FURTHER INFORMATION CONTACT: Kim Iverson, Public Information Officer, SAFMC; phone: (843) 302-8440 or toll free: (866) SAFMC-10; fax: (843) 769-4520; email: kim.iverson@safmc.net.

SUPPLEMENTARY INFORMATION: Meeting information, including agendas, overviews, and briefing book materials will be posted on the Council's website at: https://safmc.net/council-meetings/. Webinar registration links for the meeting will also be available from the Council's website.

Public comment: Public comment on agenda items may be submitted through the Council's online comment form available from the Council's website at: https://safmc.net/events/june-2024-council-meeting/. Written comments will be accepted from May 24, 2024, until June 14, 2024. These comments are accessible to the public, part of the Administrative Record of the meeting, and immediately available for Council consideration. A formal public comment session will also be held during the Council meeting.

The items of discussion in the individual meeting agendas are as follows:

Council Session I, Monday, June 10, 2024, 10 a.m. Until 12 p.m. (Closed Session)

The Council will meet in closed session to receive a litigation brief if needed, address the charge for the new For-Hire Reporting Advisory Panel (AP), address appointments to advisory panels, the Council's Citizen Science Advisory Committee and appointments for the Southeast Data, Assessment, and Review (SEDAR) program. The Council will also select the 2023 Law Enforcement Officer of the Year.

Council Session I, Monday, June 10, 2024, 1:30 p.m. Until 5 p.m.

The Council will receive an update on the status the Joint Commercial Electronic Logbook Amendment, reports from NOAA Office of Law Enforcement, the U.S. Coast Guard, Council liaisons, and state agencies, and an update on the Council's Best Fishing Practices and Citizen Science Programs. The Council will receive an update from NOAA Fisheries on public comments received regarding control dates for limited entry in South Atlantic for-hire fisheries and discuss the potential to establish limited entry for the for-hire component of the snapper grouper, dolphin wahoo, and coastal migratory pelagics fisheries. The Council will discuss modifications to the Southeast For-Hire Integrated Electronic Reporting (SEFHIER) Program and receive an update on the Dolphin Management Strategy Evaluation from NOAA Fisheries.

Shrimp Committee, Tuesday, June 11, 2024, 8:30 a.m. Until 10:30 a.m.

The Committee will receive a report from the joint meeting of the Shrimp and Deepwater Shrimp Advisory Panels (AP), receive smalltooth sawfish bycatch estimates from NOAA Fisheries, and an overview of the Shrimp Fishery Management Plan (FMP) and current regulations. The Committee will also discuss the Stock Assessment and Fisheries Evaluation (SAFE) report for shrimp and receive a presentation from NOAA Fisheries on the Shrimp Futures project.

Habitat and Ecosystem Committee, Tuesday, June 11, 2024, 10:30 a.m. Until 12 p.m.

The Committee will receive a report from the Habitat and Ecosystem AP, an Annual Habitat Report, an update on Coral Amendment 10 addressing a fishery access area and consider Coral Habitat Areas of Particular Concern expansion.

Snapper Grouper Committee, Tuesday, June 11, 2024, 1:30 p.m. Until 5 p.m., Wednesday, June 12, 2024, 8:30 a.m. Until 3:45 p.m., and Thursday, June 13, 2024, 8:30 a.m. Until 12 p.m.

The Committee will receive an update on Exempted Fishing Permits for red snapper from NOAA Fisheries. The Committee will discuss red snapper management, including recreational landings, recommendations from its Snapper Grouper AP, a presentation from NOAA Fisheries on a red snapper management options study, recommendations from its Scientific and Statistical Committee (SSC), and a prioritized list of management options for the Snapper Grouper Management Strategy Evaluation (MSE).

The Committee will also receive an overview and public hearing presentation for Amendment 48 to the Snapper Grouper FMP addressing the wreckfish fishery. The Committee will receive AP recommendations relative to Regulatory Amendment 36 addressing gag and black grouper vessel limits and on-demand gear for black sea bass and consider approving the amendment for public hearings. The Committee will also receive recommendations from its Snapper Grouper AP relative to Snapper Grouper Amendment 56 addressing black sea bass management and consider approving for public scoping.

The Committee will receive Snapper Grouper AP recommendations relative to Amendment 55 addressing management measures for scamp and yellowmouth grouper and consider approving the amendment for public hearings. The Committee will also review AP recommendations relative to Snapper Grouper Amendment 46 addressing a private recreational permit for the snapper grouper fishery, continue discussion of the snapper grouper commercial fishery, and receive an update on research in Spawning Special Management Zones.

Wednesday, June 12, 2024, 4 p.m.—Public comment will be accepted from individuals attending the meeting in person and via webinar on all items on the Council meeting agenda. The Council Chair will determine the amount of time provided to each commenter based on the number of individuals wishing to comment.

Council Session II, Thursday, June 13, 2024, 1:30 p.m. Until 5 p.m. and Friday, June 14, 2024, 8:30 a.m. Until 12 p.m.

The Council will receive a litigation brief if needed, receive a staff report, and updates on stakeholder engagement meeting planning and ongoing mackerel port meetings. The Council will receive a report from the Council Coordination Committee's May 2024 meeting, discuss topics for the Fall 2024 meeting of the Outreach and Communications AP, address terms of reference for SEDAR 90 addressing South Atlantic Red Snapper and a Statement of Work for black sea bass, and receive presentations on offshore wind. The Council will receive reports from NOAA Fisheries Southeast Regional Office and the Southeast Fisheries Science Center, and review the Council's workplan and upcoming meetings.

The Council will receive Committee reports and discuss any other business as needed.

Documents regarding these issues are available from the Council office (see ADDRESSES).

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: May 16, 2024.
Rey Israel Marquez,
Acting Deputy Director, Office of Sustainable Fisheries, National Marine Fisheries Service.

[FR Doc. 2024-11101 Filed 5-20-24; 8:45 am]

BILLING CODE 3510-22-P